DEPARTMENT OF HEALTH AND HUMAN SERVICES

National Institutes of Health

National Institute of Allergy and Infectious Diseases; Amended Notice of Meeting

Notice is hereby given of a change in the meeting of the Allergy, Immunology, and Transplantation Research Committee, October 16, 2013, 10:00 a.m. to October 16, 2013, 5:30 p.m., National Institutes of Health, Rockledge 6700, 6700B Rockledge Drive, Bethesda, MD 20817 which was published in the Federal Register on September 23, 2013, 78 FR 58322.

The date has been changed from October 16, 2013 to November 25, 2013. The meeting is closed to the public.

Dated: October 25, 2013.
David Clary,
Program Analyst, Office of Federal Advisory Committee Policy.

[FR Doc. 2013-25876 Filed 10-30-13; 8:45 am]

BILLING CODE 4140-01-P